DEPARTMENT OF ENERGY

Federal Energy Regulatory Commission

[Project No. 14630-000]

Chugach Electric Association, Inc.; Notice of Preliminary Permit Application Accepted for Filing and Soliciting Comments, Motions To Intervene, and Competing Applications

On September 2, 2014, Chugach Electric Association, Inc. filed an application for a preliminary permit, pursuant to section 4(f) of the Federal Power Act (FPA), proposing to study the feasibility of the Fourth of July Project (Fourth of July Creek Project or project) to be located on Godwin and Fourth of July Creeks, near Seward in Kenai Peninsula Borough, Alaska. The sole purpose of a preliminary permit, if issued, is to grant the permit holder priority to file a license application during the permit term. A preliminary permit does not authorize the permit holder to perform any land-disturbing activities or otherwise enter upon lands or waters owned by others without the owners' express permission.

The proposed project would consist of two new developments using the same: (1) 70-foot long, 30-foot-wide, 30-foot-high powerhouse; (2) tailrace consisting of a concrete drop box continuing to a rip rap channel; (3) 10,900-foot-long, 69-kilovolt transmission line extending from the powerhouse to an existing substation; (4) 4,300-foot-long, 16-foot-wide gravel access road; (5) 200-foot-long bridge; and (6) appurtenant facilities.

Fourth of July Creek Development

(1) a 110-foot-long, 20-foot-wide, 18-foot-high concrete intake structure located at an elevation of 790 feet mean sea level (msl) on Fourth of July Creek; (2) a 5,200-foot-long, 54-inch-diameter steel penstock from the Fourth of July Creek intake housed in a 3,460-foot-long, 16-foot-diameter tunnel and a 1,670-foot-long, 54-inch-diameter steel penstock buried where feasible; and (3) a horizontal Francis turbine/generator unite rated for 6.6 megawatts (MW) at 637 feet of net head.

Godwin Creek Development

(1) a 110-foot-long, 20-foot-wide, 18-foot-high concrete intake structure located at an elevation of 415 feet msl on Godwin Creek; (2) a 3,500-foot-long, 78-inch-diameter steel penstock buried where feasible from Godwin Creek; and (3) a horizontal Francis turbine/generator unit rated for 6.1 MW at 280 feet of net head.

The estimated annual generation of the Fourth of July Creek Project would be 55,012 megawatt-hours.

Applicant Contact: Mr. Paul R. Risse, Senior Vice President, Chugach Electric Association, Inc., 5601 Electron Drive, Anchorage, Alaska 99518; phone: (907) 563-7494.

FERC Contact: Julia Kolberg; phone: (202) 502-8261.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14630-000.

More information about this project, including a copy of the application, can be viewed or printed on the “eLibrary” link of Commission's Web site at http://www.ferc.gov/docs-filing/elibrary.asp. Enter the docket number (P-14630) in the docket number field to access the document. For assistance, contact FERC Online Support.

Dated: September 18, 2014.
Kimberly D. Bose,
Secretary.

[FR Doc. 2014-22798 Filed 9-24-14; 8:45 am]

BILLING CODE 6717-01-P